NATIONAL FOUNDATION ON THE ARTS AND THE HUMANITIES

National Endowment for the Arts

Notice To Announce Request for Comments on the National Endowment for the Arts' Draft 2022-2026 Strategic Plan

AGENCY: National Endowment for the Arts.

ACTION: Request for comments.

SUMMARY: The National Endowment for the Arts (NEA) is in the process of developing a new strategic plan for fiscal years 2022 through 2026. The NEA Office of Research & Analysis is soliciting public comments on the agency's draft 2022-2026 Strategic Plan. We encourage you to read the draft Strategic Plan (linked below) and provide any comments you may have via email (see ADDRESSES). To view the draft strategic plan, please visit the NEA website at: https://www.arts.gov/strategic-plan-input.Through this Request for Comments, the NEA invites ideas and insights from the general public, including arts organizations, artists, arts educators, state and local arts agencies, other arts funders and policy-makers, researchers, and individuals and groups outside the arts sector.

DATES: Written comments must be submitted to the office listed in the address section below on or before the close of business on Friday, September 3, 2021. Comments received after that date will be considered to the extent practicable.

ADDRESSES: Send comments to Sunil Iyengar, National Endowment for the Arts, via email at NEAstrategicplanninggroup@arts.gov.

SUPPLEMENTARY INFORMATION:

A. About the National Endowment for the Arts

Established by Congress in 1965, the National Endowment for the Arts is an independent federal agency, providing funding and support to give Americans the opportunity to participate in the arts, exercise their imaginations, and develop their creative capacities. Currently, the NEA supports arts organizations and artists in every Congressional district in the country.

B. Request for Comments

As a federal agency, the National Endowment for the Arts is required to establish a new strategic plan every four years. The Strategic Plan sets key priorities for the agency and presents management-focused objectives and strategies. The current draft plan is intended to align the NEA's strategic aims more closely with the needs of today, while elevating the vital and enduring role of the Agency within government and society at large. The NEA's draft Strategic Plan, covering fiscal years 2022-2026 can be found online, here: https://www.arts.gov/strategic-plan-input.

Through this Request for Comments, the NEA is seeking public input and comments from a broad array of stakeholders (see SUMMARY). A call for comments has also been posted to the agency's website: https://www.arts.gov/strategic-plan-input.

Authority: 5 U.S.C. 306.

Dated: August 17, 2021.
Meghan Jugder,
Support Services Specialist, Office of Administrative Services & Contracts, National Endowment for the Arts.

[FR Doc. 2021-17883 Filed 8-19-21; 8:45 am]

BILLING CODE 7537-01-P